DEPARTMENT OF ENERGY

Federal Energy Regulatory Commission

[Docket No. CP17-458-000]

Midship Pipeline Company, LLC; Notice of Schedule for Environmental Review of the Midcontinent Supply Header Interstate Pipeline Project

On May 31, 2017, Midship Pipeline Company, LLC (Midship Pipeline) filed an application with the Federal Energy Regulatory Commission (FERC or Commission) in Docket No. CP17-458-000 requesting a Certificate of Public Convenience and Necessity pursuant to section 7(c) of the Natural Gas Act (NGA) and part 157 of the Commission's regulations to construct, own, operate, and maintain a new 233.6-mile-long natural gas pipeline system and associated facilities in Oklahoma. The proposed project, known as the Midcontinent Supply Header Interstate Pipeline Project (MIDSHIP Project), would provide 1,440 million standard cubic feet per day of natural gas transportation capacity from the Anadarko Basin in Oklahoma to existing natural gas pipelines near Bennington, Oklahoma, for transport to growing Gulf Coast and Southeast markets.

FERC issued its Notice of Application for the MIDSHIP Project on June 14, 2017. Among other things, the notice alerted other agencies issuing federal authorizations of the requirement to complete all necessary reviews and to reach a final decision on the request for a federal authorization within 90 days of the date of issuance of the Commission staff's final environmental impact statement (EIS) for the MIDSHIP Project. This notice identifies the FERC staff's planned schedule for completion of the final EIS for the MIDSHIP Project, which is based on an issuance of the draft EIS in February 2018.

Schedule for Environmental Review

Issuance of Notice of Availability of the final EIS: June 21, 2018.

90-day Federal Authorization Decision Deadline: September 19, 2018.

If a schedule change becomes necessary, an additional notice will be provided so that the relevant agencies are kept informed of the MIDSHIP Project's progress.

Background

On November 9, 2016, the Commission staff granted Midship Pipeline's request to use FERC's pre-filing environmental review process and assigned the MIDSHIP Project Docket No. PF17-3-000. On January 27, 2017, the Commission issued a Notice of Intent to Prepare an Environmental Impact Statement for the Planned Midcontinent Supply Header Interstate Pipeline Project, Request for Comments on Environmental Issues, and Notice of Public Scoping Sessions. On March 22, 2017, the Commission issued a Supplemental Notice to seek comments on additional facilities identified by Midship Pipeline as part of the MIDSHIP Project. The notices were sent to federal, state, and local government representatives and agencies; elected officials; environmental and public interest groups; Native American Tribes; affected property owners; other interested parties; and local libraries and newspapers. Major issues raised include the potential for induced seismicity; possible alternative routes; and potential impacts on agricultural lands, cattle grazing, threatened and endangered species, surface water and groundwater resources, air quality and noise, and safety. The U.S. Environmental Protection Agency is a cooperating agency in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents via email. Go to www.ferc.gov/docs-filing/esubscription.asp.

Additional information about the MIDSHIP Project is available from the Commission's Office of External Affairs at (866) 208-FERC or on the FERC Web site (www.ferc.gov). Using the eLibrary link, select General Search from the eLibrary menu, enter the selected date range and Docket Number excluding the last three digits (i.e., CP17-458), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: November 28, 2017.
Kimberly D. Bose,
Secretary.

[FR Doc. 2017-26031 Filed 12-1-17; 8:45 am]

BILLING CODE 6717-01-P